DEPARTMENT OF TRANSPORTATION

Federal Aviation Administration

14 CFR Part 39

[Docket No. FAA-2017-0417; Directorate Identifier 2017-CE-008-AD]

RIN 2120-AA64

Airworthiness Directives; SOCATA Airplanes

AGENCY: Federal Aviation Administration (FAA), Department of Transportation (DOT).

ACTION: Notice of proposed rulemaking (NPRM).

SUMMARY: We propose to adopt a new airworthiness directive (AD) for SOCATA Model TBM 700 airplanes that would supersede AD 2002-19-01. This proposed AD results from mandatory continuing airworthiness information (MCAI) originated by an aviation authority of another country to identify and correct an unsafe condition on an aviation product. The MCAI describes the unsafe condition as the flight control wheel traveling beyond normal roll control limits and jamming in a position that could cause loss of control. We are issuing this proposed AD to require actions to address the unsafe condition on these products.

DATES: We must receive comments on this proposed AD by June 22, 2017.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact SOCATA, Direction des services, 65921 Tarbes Cedex 9, France; phone: +33 (0) 5 62 41 73 00; fax: +33 (0) 5 62 41 76 54; email: info@socata.daher.com; Internet: https://www.mysocata.com/login/accueil.php. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2017-0417; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Albert Mercado, Aerospace Engineer, 901 Locust, Room 301, Kansas City, Missouri 64106; telephone: (816) 329-4119; fax: (816) 329-4090; email: albert.mercado@faa.gov.

SUPPLEMENTARY INFORMATION:

Comments Invited

We invite you to send any written relevant data, views, or arguments about this proposed AD. Send your comments to an address listed under the ADDRESSES section. Include “Docket No. FAA-2017-0417; Directorate Identifier 2017-CE-008-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On September 6, 2002, we issued AD 2002-19-01, Amendment 39-12881 (67 FR 59137; September 20, 2002) (“AD 2002-19-01”). That AD requires actions intended to address an unsafe condition on SOCATA Model TBM 700 airplanes and was based on mandatory continuing airworthiness information (MCAI) originated by an aviation authority of another country.

Since we issued AD 2002-19-01, a revision to the service information was issued to provide instructions for replacement of the rivets in the roll primary stops as a terminating action for the repetitive inspections.

The European Aviation Safety Agency (EASA), which is the Technical Agent for the Member States of the European Community, has issued EASA AD No.: 2017-0018, dated February 3, 2017 (referred to after this as “the MCAI”), to correct an unsafe condition for the specified products. The MCAI states:

An event occurred in 2001 on an in-service aeroplane where, during a pre-flight check of the flight controls, the pilot control wheel jammed in full nose up and full left position after having exceeded the control stop of roll.

This condition, if not corrected, could lead to reduced control of the aeroplane.

Prompted by these findings, SOCATA issued Service Bulletin (SB) 70-095-27 to provide inspection instructions.

To address this unsafe condition, DGAC France issued AD 2001-582(A) to require repetitive inspections of the flight control system after any maintenance operation on flight controls. That AD was later revised to update the list of affected aeroplane MSN.

Since DGAC France AD 2001-582(A) R1 was issued, SOCATA issued Revision 2 of SB 70-095-27 to provide instructions for replacement of the rivets in the roll primary stops as a terminating action for the repetitive inspections.

For the reasons described above, this [EASA] AD, which supersedes DGAC France AD 2001-582(A) R1, requires replacement of the rivets in the roll primary stops of the flight control wheels at the next maintenance operation on flight controls.

You may examine the MCAI on the Internet at http://www.regulations.gov by searching for and locating Docket No. FAA-2017-0417.

Related Service Information Under 1 CFR Part 51

SOCATA has issued DAHER SOCATA Mandatory Service Bulletin SB 70-095, Revision 2, dated October 2016, which describes procedures for replacement of the flight control wheel primary stop rivets; and EADS SOCATA SB 70-114-27, dated December 2004, which describes procedures for installation of roll control emergency stops on the flight control wheel.

SOCATA issued SOCATA TBM Aircraft Mandatory SB 70-095 27, dated November 2001, approved for incorporation by reference on October 29, 2002 (67 FR 59137; September 20, 2002), which describes procedures for testing the pilot and right-hand (RH) station control wheels for jamming and procedures for adjusting the roll control stops if jamming occurs.

This service information is reasonably available because the interested parties have access to it through their normal course of business or by the means identified in the ADDRESSES section of this NPRM.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the Service Information

DAHER SOCATA Mandatory Service Bulletin SB 70-095, Revision 2, dated October 2016, requires a modification that terminates any repetitive inspections and also gives credit for another modification that may have previously been done. We are retaining the repetitive inspection requirement from AD 2002-19-01 and allowing installation of one of the two different modifications as terminating action for the repetitive inspections.

Costs of Compliance

We estimate that this proposed AD will affect 203 products of U.S. registry.

For inspection of the pilot and right-hand (RH) station control wheels we estimate that it would take about 1 hour per product to comply with the basic requirements of this proposed AD. The average labor rate is $85 per work-hour. Based on these figures, we estimate the cost of the inspection on U.S. operators to be $17,255, or $85 per product.

In addition, we estimate that any necessary follow-on actions would cost the following amounts. We have no way of determining the number of products that may need these actions.

We estimate that it will take about 3 work-hours per product for any adjustment of the roll control stops if jamming occurs on either the pilot control wheel or the RH station control wheel. The average labor rate is $85 per work-hour. Based on these figures, we estimate the cost of this action on U.S. operators to be $255 per product.

For replacement of the rivets in the roll primary stops we estimate that it would take about 3.5 work-hours per product to comply with the basic requirements of this proposed AD. The average labor rate is $85 per work-hour. Required parts would cost about $10 per product. Based on these figures, for replacement of the rivets we estimate the cost of the proposed AD on U.S. operators to be $307.50 per product.

For the installation of a roll control emergency stop on each control wheel we estimate that it would take about 19.5 work-hours per product to comply with the basic requirements of this proposed AD. The average labor rate is $85 per work-hour. Required parts would cost about $1,650 per product. Based on these figures, for installation of the roll control emergency stop, we estimate the cost of the proposed AD on U.S. operators to be $3,307.50 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2002-19-01, Amendment 39-12881 (67 FR 59137; September 20, 2002), and adding the following new AD:

SOCATA: Docket No. FAA-2017-0417; Directorate Identifier 2017-CE-008-AD.

(a) Comments Due Date

We must receive comments by June 22, 2017.

(b) Affected ADs

This AD replaces AD 2002-19-01, Amendment 39-12881 (67 FR 59137; September 20, 2002) (“AD 2002-19-01”).

(c) Applicability

This AD applies to SOCATA Model TBM 700 airplanes, serial numbers 1 through 184, 186, 187, 189 through 204, 206, and 207, certificated in any category.

(d) Subject

Air Transport Association of America (ATA) Code 27: Flight Controls.

(e) Reason

This AD was prompted by mandatory continuing airworthiness information (MCAI) originated by an aviation authority of another country to identify and correct an unsafe condition on an aviation product. The MCAI describes the unsafe condition as the flight control wheel traveling beyond normal roll control limits. We are issuing this AD to prevent the flight control wheel from becoming jammed and leading to reduced or loss of control.

(f) Actions and Compliance

Unless already done, do the following actions in paragraphs (f)(1) through (3) of this AD:

(1) Within the next 100 hours time-in-service (TIS) after October 29, 2002 (the effective date retained from AD 2002-19-01) and repetitively thereafter every time the flight control system undergoes maintenance, perform a test of the pilot and right-hand (RH) station control wheels to determine if either control wheel becomes jammed following SOCATA TBM Aircraft Mandatory Service Bulletin (SB) 70-095 27, dated November 2001.

(2) If any jamming is found during any test required by paragraph (f)(1) of this AD, before further flight, adjust the roll control stops on either the pilot control wheel or the RH station control wheel following SOCATA TBM Aircraft Mandatory SB 70-095 27, dated November 2001.

(3) To terminate the repetitive inspections required in paragraph (f)(1) of this AD either of the following actions may be done:

(i) Replace the rivets in the roll primary stops of both control wheels following the Accomplishment Instructions in DAHER SOCATA Mandatory SB 70-095, Revision 2, dated October 2016; or

(ii) Install a roll control emergency stop on each control wheel following the Accomplishment Instructions of EADS SOCATA SB 70-114-27, dated December 2004.

(g) Credit for Actions Done Following Previous Service Information

This AD allows credit for replacement of the roll primary stop rivets on an airplane as required in the option in paragraph (f)(3)(i) of this AD before the effective date of this AD following the instructions of SOCATA TBM Mandatory SB 70-095, original issue or revision 1.

(h) Other FAA AD Provisions

The following provisions also apply to this AD:

(1) Alternative Methods of Compliance (AMOCs): The Manager, Standards Office, FAA, has the authority to approve AMOCs for this AD, if requested using the procedures found in 14 CFR 39.19. Send information to ATTN: Albert Mercado, Aerospace Engineer, 901 Locust, Room 301, Kansas City, Missouri 64106; telephone: (816) 329-4119; fax: (816) 329-4090; email: albert.mercado@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI EASA AD No.: 2017-0018, dated February 3, 2017; SOCATA TBM Aircraft Mandatory SB 70-095 27, dated November 2001, DAHER SOCATA Mandatory SB 70-095, Revision 2, dated October 2016; and EADS SOCATA SB 70-114-27, dated December 2004; for related information. You may examine the MCAI on the Internet at http://www.regulations.gov by searching for and locating Docket No. FAA-2017-0417. For service information related to this AD, contact SOCATA, Direction des services, 65921 Tarbes Cedex 9, France; phone: +33 (0) 5 62 41 73 00; fax: +33 (0) 5 62 41 76 54; email: info@socata.daher.com; Internet: https://www.mysocata.com/login/accueil.php. You may review copies of the referenced service information at the FAA, Small Airplane Directorate, 901 Locust, Kansas City, Missouri 64106. For information on the availability of this material at the FAA, call (816) 329-4148.

Issued in Kansas City, Missouri, on April 27, 2017.
Pat Mullen,
Acting Manager, Small Airplane Directorate, Aircraft Certification Service.

[FR Doc. 2017-09042 Filed 5-5-17; 8:45 am]

BILLING CODE 4910-13-P